NUCLEAR REGULATORY COMMISSION

[License No. XW019; Docket No. 11005986; NRC-2018-0245]

Perma-Fix Northwest Richland, Inc.; Correction

AGENCY: Nuclear Regulatory Commission.

ACTION: Export license application; opportunity to comment, request a hearing, and petition for leave to intervene; extension of comment period and correction.

SUMMARY: The U.S. Nuclear Regulatory Commission (NRC) is correcting a notice that was published in the Federal Register (FR) on October 24, 2018, regarding the review of an export license application (XW019), submitted by Perma-Fix Northwest Richland, Inc. (PFNW). This action is necessary to correct the Regulations.gov Docket ID provided to the public for obtaining information and submitting comments through the Federal rulemaking website. In addition, the NRC is extending the period for commenting, requesting a hearing, and petitioning for leave to intervene.

DATES: The comment period and the date to request a hearing, and petition for leave to intervene in the document published on October 24, 2018 (83 FR 53666) is extended. Comments must be filed by November 30, 2018. Requests for a hearing or petition for leave to intervene must be filed by November 30, 2018. The correction is effective October 31, 2018.

ADDRESSES: You may submit comments by any of the following methods:

• Federal Rulemaking website: Go to http://www.regulations.gov and search for Docket ID NRC-2018-0245. Address questions about Docket IDs in Regulations.gov to Jennifer Borges; telephone: 301-287-9127; email: Jennifer.Borges@nrc.gov. For technical questions, contact the individual listed in the FOR FURTHER INFORMATION CONTACT section of this document.

• Email comments to: hearing.docket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Andrea R. Jones, Office of International Programs, telephone: 404-997-4443; email: Andrea.Jones2@nrc.gov, U.S. Nuclear Regulatory Commission, Washington, DC 20555-0001.

SUPPLEMENTARY INFORMATION: In the FR on October 24, 2018 (83 FR 53666), correct the Federal rulemaking website Docket ID from “NRC-2012-7946” to “NRC-2018-0245.”

Dated at Rockville, Maryland, this 25th day of October 2018.
For the Nuclear Regulatory Commission.
Cindy K. Bladey,
Federal Register Liaison Officer, Division of Rulemaking, Office of Nuclear Material Safety and Safeguards.

[FR Doc. 2018-23828 Filed 10-30-18; 8:45 am]

BILLING CODE 7590-01-P